NATIONAL SCIENCE FOUNDATION

Conservation Act of 1978; Notice of Permit Modification

AGENCY: National Science Foundation.

SUMMARY: The Foundation modified a permit to conduct activities regulated under the Antarctic Conservation Act of 1978 (Public Law 95-541; 45 CFR Part 670).

FOR FURTHER INFORMATION CONTACT: Nadene G. Kennedy, Permit Officer, Office of Polar Programs, Rm. 755, National Science Foundation, 4201 Wilson Boulevard, Arlington, VA 22230.

Description of Permit and Modification

1. On September 15, 1999, the National Science Foundation issued a permit (ACA #2000-004) to Dr. Paul J. Ponganis after posting a notice in the August 17, 1999 Federal Regiser. Public comments were not received. A request to modify the permit was posted in the Federal Register on October 20, 2000. No public comments were received. The modification, issued by the Foundation on November 1, 2000, allows for entry into the Cape Crozier Antarctic Specially Protected Area No. 124 for the purpose of conducting a census on the newly hatched Emperor penguin chicks.

Location: ASPA 124—Cape Crozier, Ross Island.

Dates: November 15, 2000 to February 28, 2002.

Nadene G. Kennedy,
Permit Officer.

[FR Doc. 00-30747 Filed 12-1-00; 8:45 am]

BILLING CODE 7555-01-M